DEPARTMENT OF STATE

[Public Notice: 8941]

60-Day Notice of Proposed Information Collection: Ten DDTC Information Collections

ACTION: Notice of request for public comments.

SUMMARY: The Department of State is seeking Office of Management and Budget (OMB) approval for the information collections described below. In accordance with the Paperwork Reduction Act of 1995, we are requesting comments on these collections from all interested individuals and organizations. The purpose of this notice is to allow 60 days for public comment preceding submission of the collections to OMB.

DATES: The Department will accept comments from the public up to 60 days from November 10, 2014.

ADDRESSES: Comments and questions should be directed to Mr. Robert Hart, Office of Defense Trade Controls Policy, U.S. Department of State, who may be reached via the following methods:

• Internet: Persons with access to the Internet may use the Federal Docket Management System (FDMS) to comment on this notice by going to www.regulations.gov and searching for the document by entering the docket ID: “DOS-2014-0024” in the search bar. If necessary, use the “narrow by agency” filter option on the results page.

• Email: hartrl@state.gov.

• Mail: Mr. Robert Hart, SA-1, 12th Floor, Directorate of Defense Trade Controls, Bureau of Political-Military Affairs, U.S. Department of State, Washington, DC 20522-0112.

You must include the information collection title and the OMB control number in any correspondence.

FOR FURTHER INFORMATION CONTACT: Direct requests for additional information to Mr. Robert Hart, PM/DDTC, SA-1, 12th Floor, Directorate of Defense Trade Controls, Bureau of Political-Military Affairs, U.S. Department of State, Washington, DC 20522-0112, who may be reached via phone at (202) 663-2918, or via email at hartrl@state.gov.

• Title of Information Collection: Application/License for Permanent Export of Unclassified Defense Articles and Related Unclassified Technical Data.

• OMB Control Number: 1405-0003.

• Type of Request: Extension of Currently Approved Collection.

• Originating Office: Bureau of Political-Military Affairs, Directorate of Defense Trade Controls, PM/DDTC.

• Form Number: DSP-5.

• Respondents: Business and Nonprofit Organizations.

• Estimated Number of Respondents: 2,748.

• Estimated Number of Responses: 53,170.

• Average Hours per Response: 1 hour.

• Total Estimated Burden: 53,170 hours.

• Frequency: On Occasion.

• Obligation to Respond: Required to Obtain Benefits.

• Title of Information Collection: Application/License for Temporary Import of Unclassified Defense Articles.

• OMB Control Number: 1405-0013.

• Type of Request: Extension of Currently Approved Collection.

• Originating Office: Bureau of Political-Military Affairs, Directorate of Defense Trade Controls, PM/DDTC.

• Form Number: DSP-61.

• Respondents: Business and Nonprofit Organizations.

• Estimated Number of Respondents: 311.

• Estimated Number of Responses: 1,671.

• Average Hours per Response: 1/2 hour.

• Total Estimated Burden: 835 hours.

• Frequency: On Occasion.

• Obligation to Respond: Required to Obtain Benefits.

• Title of Information Collection: Application/License for Temporary Export of Unclassified Defense Articles.

• OMB Control Number: 1405-0023.

• Type of Request: Extension of Currently Approved Collection.

• Originating Office: Bureau of Political-Military Affairs, Directorate of Defense Trade Controls, PM/DDTC.

• Form Number: DSP-73.

• Respondents: Business and Nonprofit Organizations.

• Estimated Number of Respondents: 605.

• Estimated Number of Responses: 4,807.

• Average Hours per Response: 1 hour.

• Total Estimated Burden: 4,807 hours.

• Frequency: On Occasion.

• Obligation to Respond: Required to Obtain Benefits.

• Title of Information Collection: Application/License for the Permanent/Temporary Export or Temporary Import of Classified Defense Articles.

• OMB Control Number: 1405-0022.

• Type of Request: Extension of Currently Approved Collection.

• Originating Office: Bureau of Political-Military Affairs, Directorate of Defense Trade Controls, PM/DDTC.

• Form Number: DSP-85.

• Respondents: Business and Nonprofit Organizations.

• Estimated Number of Respondents: 153.

• Estimated Number of Responses: 530.

• Average Hours per Response: 1/2 hour.

• Total Estimated Burden: 265 hours.

• Frequency: On Occasion.

• Obligation to Respond: Required to Obtain Benefits.

• Title of Information Collection: Request for Approval of Manufacturing License Agreements, Technical Assistance Agreements.

• OMB Control Number: 1405-0093.

• Type of Request: Extension of Currently Approved Collection.

• Originating Office: Bureau of Political-Military Affairs, Directorate of Defense Trade Controls, PM/DDTC.

• Form Number: None.

• Respondents: Business and Nonprofit Organizations.

• Estimated Number of Respondents: 885.

• Estimated Number of Responses: 7,274.

• Average Hours per Response: 2 hours.

• Total Estimated Burden: 14,548 hours.

• Frequency: On Occasion.

• Obligation to Respond: Required to Obtain Benefits.

• Title of Information Collection: Statement of Political Contributions, Fees, or Commissions in Connection with the Sale of Defense Articles or Services.

• OMB Control Number: 1405-0025.

• Type of Request: Extension of Currently Approved Collection.

• Originating Office: Bureau of Political-Military Affairs, Directorate of Defense Trade Controls, PM/DDTC.

• Form Number: None.

• Respondents: Business and Nonprofit Organizations.

• Estimated Number of Respondents: 750.

• Estimated Number of Responses: 1,900.

• Average Hours per Response: 1 hour.

• Total Estimated Burden: 1,900 hours.

• Frequency: On Occasion.

• Obligation to Respond: Mandatory.

• Title of Information Collection: Nontransfer and Use Certificate.

• OMB Control Number: 1405-0021.

• Type of Request: Extension of Currently Approved Collection.

• Originating Office: Bureau of Political-Military Affairs, Directorate of Defense Trade Controls, PM/DDTC.

• Form Number: DSP-83.

• Respondents: Business and Nonprofit Organizations.

• Estimated Number of Respondents: 2,400.

• Estimated Number of Responses: 8,800.

• Average Hours per Response: 1 hour.

• Total Estimated Burden: 8,800 hours.

• Frequency: On Occasion.

• Obligation to Respond: Required to Obtain Benefits.

• Title of Information Collection: Application/License for Permanent Export of Unclassified Defense Articles and Related Unclassified Technical Data.

• OMB Control Number: 1405-0051.

• Type of Request: Extension of Currently Approved Collection.

• Originating Office: Bureau of Political-Military Affairs, Directorate of Defense Trade Controls, PM/DDTC.

• Form Number: DSP-94.

• Respondents: Business and Nonprofit Organizations.

• Estimated Number of Respondents: 250.

• Estimated Number of Responses: 2,500.

• Average Hours per Response: 1/2 hour.

• Total Estimated Burden: 1,250 hours.

• Frequency: On Occasion.

• Obligation to Respond: Required to Obtain Benefits.

• Title of Information Collection: “Maintenance of Records by Registrants,” Section 122.5 of the International Traffic in Arms Regulations.

• OMB Control Number: 1405-0111.

• Type of Request: Extension of Currently Approved Collection.

• Originating Office: Bureau of Political-Military Affairs, Directorate of Defense Trade Controls, PM/DDTC.

• Form Number: None.

• Respondents: Business and Nonprofit Organizations.

• Estimated Number of Respondents: 9,100.

• Estimated Number of Responses: 720.

• Average Hours per Response: 20 hours.

• Total Estimated Burden: 182,000 hours.

• Frequency: On Occasion.

• Obligation to Respond: Mandatory.

• Title of Information Collection: Application for Amendment to License for Export or Import of Classified or Unclassified Defense Articles and Related Classified Technical Data.

• OMB Control Number: 1405-0092.

• Type of Request: Extension of Currently Approved Collection.

• Originating Office: Bureau of Political-Military Affairs, Directorate of Defense Trade Controls, PM/DDTC.

• Form Number: DSP-6, DSP-62, DSP-74, DSP-119.

• Respondents: Business and Nonprofit Organizations.

• Estimated Number of Respondents: 1,007.

• Estimated Number of Responses: 6,829.

• Average Hours per Response: 1/2 hour.

• Total Estimated Burden: 3,415 hours.

• Frequency: On Occasion.

• Obligation to Respond: Required to Obtain Benefits.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collections: The export, temporary import, and brokering of defense articles, defense services, and related technical data are licensed by the Directorate of Defense Trade Controls (DDTC) in accordance with the International Traffic in Arms Regulations (“ITAR,” 22 CFR 120-130) and Section 38 of the Arms Export Control Act. Those who manufacture or export defense articles, defense services, and related technical data, or the brokering thereof, must register with the Department of State. Persons desiring to engage in export, temporary import, and brokering activities must submit an application or written request to conduct the transaction to the Department to obtain a decision whether it is in the interests of U.S. foreign policy and national security to approve the transaction. Also, registered brokers must submit annual reports regarding all brokering activity that was transacted, and registered manufacturers and exporter must maintain records of defense trade activities for five years.

• 1405-0003, Application/License for Permanent Export of Unclassified Defense Articles and Related Unclassified Technical Data: This form is an application that, when completed and officially approved by PM/DDTC, Department of State, constitutes the official record and authorization for the permanent commercial export of unclassified U.S. Munitions List articles and technical data, pursuant to the Arms Export Control Act and the International Traffic in Arms Regulations.

• 1405-0013, Application/License for Temporary Import of Unclassified Defense Articles: This form is an application that, when completed and officially approved by PM/DDTC, Department of State, constitutes the official record and authorization for the temporary commercial import of unclassified U.S. Munitions List articles, pursuant to the Arms Export Control Act and the International Traffic in Arms Regulations.

• 1405-0023, Application/License for Temporary Export of Unclassified Defense Articles: This form is an application that, when completed and officially approved by PM/DDTC, Department of State, constitutes the official record and authorization for the temporary commercial export of unclassified U.S. Munitions List articles, pursuant to the Arms Export Control Act and the International Traffic in Arms Regulations.

• 1405-0022, Application/License for Permanent/Temporary Export or Temporary Import of Classified Defense Articles and Classified Technical Data: This form is an application that, when completed and officially approved by PM/DDTC, Department of State, constitutes the official record and authorization for all classified commercial defense trade transactions, pursuant to the Arms Export Control Act and the International Traffic in Arms Regulations.

• 1405-0093, Request for Approval of Manufacturing License Agreements, Technical Assistance Agreements, and Other Agreements: These documents are reviewed by PM/DDTC, Department of State and, when approved, constitute authorization for U.S. companies to engage in defense article and technology exchanges for long term cooperation and assistance.

• 1405-0025, Statement of Political Contributions, Fees, or Commissions in Connection With the Sale of Defense Articles or Services: This statement is required when an entity registered with PM/DDTC, Department of State, engages in a transaction valued at $500,000 or more, pursuant to the Arms Export Control Act. The aim is to ensure activities like those prohibited by the Foreign Corrupt Practices Act are properly addressed.

• 1405-0021, Nontransfer and Use Certificate: This form is required to ensure foreign consignees and foreign end-users in defense trade will not re-export, re-sell, or otherwise dispose of exports of U.S. defense equipment/technology without prior United States Government approval.

• 1405-0051, Application/License for Permanent Export of Unclassified Defense Articles and Related Unclassified Technical Data: This form, when completed, constitutes the official record of commercial transaction pursued in furtherance of government-to-government transfer of defense articles, pursuant to the Arms Export Control Act and the International Traffic in Arms Regulations.

• 1405-0111, “Maintenance of Records by Registrants,” Section 122.5 of the International Traffic in Arms Regulations: The Department of State requires access to defense trade-related information to ensure compliance with law and furtherance of national security/foreign policy interests. This information is to be maintained by persons required to register with the Directorate of Defense Trade Controls per Parts 122 and 129 of the International Traffic in Arms Regulations.

• 1405-0092, Application for Amendment to License for Export or Import of Classified or Unclassified Defense Articles and Related Classified Technical Data: This form is an application that, when completed and officially approved by PM/DDTC, Department of State, constitutes the official record and authorization for all requests to amend existing defense trade authorizations made pursuant to the Arms Export Control Act and the International Traffic in Arms Regulations.

Methodology: This information collection may be sent to the Directorate of Defense Trade Controls via the following methods: Electronically or mail.

Dated: October 21, 2014.
C. Edward Peartree,
Office of Defense Trade Controls Policy, Bureau of Political-Military Affairs, U.S. Department of State.

[FR Doc. 2014-26633 Filed 11-7-14; 8:45 am]

BILLING CODE 4710-25-P